DEPARTMENT OF HEALTH AND HUMAN SERVICES

National Institutes of Health

Center for Scientific Review; Amended Notice of Meeting

Notice is hereby given of a change in the meeting of the Center for Scientific Review Special Emphasis Panel, February 20, 2014, 01:00 p.m. to February 20, 2014, 02:30 p.m., Fairmont Hotel San Francisco, 950 Mason Street, San Francisco, CA, 94108 which was published in the Federal Register on January 23, 2014, 79 FR 3837.

The meeting location has changed to The Argonaut Hotel, 495 Jefferson Street, San Francisco, CA 94109. The meeting date and time remain the same. The meeting is closed to the public.

Dated: February 10, 2014.
Melanie J. Gray,
Program Analyst, Office of Federal Advisory Committee Policy.

[FR Doc. 2014-03222 Filed 2-13-14; 8:45 am]

BILLING CODE 4140-01-P